DEPARTMENT OF HEALTH AND HUMAN SERVICES

Agency for Toxic Substances and Disease Registry

Statement of Organization, Functions, and Delegations of Authority

Part T (Agency for Toxic Substances and Disease Registry) of the Statement of Organization, Functions, and Delegations of Authority of the Department of Health and Human Services (50 FR 25129-25130, dated June 17, 1985, as amended most recently at 67 FR 67858, dated November 7, 2002) is amended to reflect the reorganization of the Agency for Toxic Substances and Disease Registry (ATSDR).

Section T-B, Organization and Functions, is hereby amended as follows:

After the functional statement for the Office of the Administrator (TA), delete the title and functional statement for the Office of the Assistant Administrator (TB), and insert the following:

Office of the Director (TB). (1) Manages, directs, coordinates, and evaluates all health-related programs of the National Center for Environmental Health (NCEH) and the Agency for Toxic Substances and Disease Registry (ATSDR); (2) provides overall leadership in health-related activities for hazardous substances, hazardous waste sites and chemical releases; (3) provides overall coordination for the research programs and science policies of the agencies; (4) develops goals and objectives and provides leadership, policy formulation, scientific oversight, and guidance in program planning and development; (5) provides overall budgetary and human resource management and administrative support; (6) provides information, publication and distribution services to NCEH/ATSDR; (7) maintains liaison with other Federal, State, and local agencies, institutions, and organizations; (8) coordinates NCEH/ATSDR program activities with other CDC components, other Federal, State and local Government agencies, the private sector, and other nations; and (9) directs and coordinates activities in support of the Department's Equal Employment Opportunity program and employee development.

Delete the title and functional statement for the Office of Program Operations and Management (TB1) and insert the following:

Office of Financial and Administrative Services (TB1). (1) Plans, manages, directs, and conducts the administrative and financial management operations of NCEH/ATSDR; (2) reviews the effectiveness and efficiency of administration and operation of all NCEH/ATSDR programs; (3) develops and directs systems for human resource management, financial services, procurement requisitioning, and travel authorization; (4) provides and coordinate services for the extramural award activities of NCEH/ATSDR; (5) formulates and executes the budget; and (6) develops and directs a system for cost recovery.

Abolish in their entirety the following titles and functional statements: Program Analysis Branch (TB12), Program Support Branch (TB13), and the Information Resources Management Branch (TB14).

Delete the title and functional statement for the Office of Policy and External Affairs (TB4) and insert the following:

Office of Policy, Planning, and Evaluation (TB4). (1) Coordinates, develops, recommends and implements strategic planning and tracking for NCEH/ATSDR; (2) develops and manages an evaluation program to ensure adequacy and responsiveness of NCEH/ATSDR activities; (3) participates in reviewing, coordinating, and preparing legislation, briefing documents, Congressional testimony, and other legislative matters; (4) maintains liaison and coordinates with other Federal agencies for program planning and evaluation; (5) assists in the development of NCEH/ATSDR budget and program initiatives; (6) provides liaison and staff offices and other officials of CDC; (7) monitors and prepares reports on health-related activities to comply with provisions of relevant legislation; (8) coordinates the development, review, and approval of Federal regulations, Federal Register announcements, request for OMB clearance, and related activities; (9) develops and strengthens strategic partnerships with key constituent groups; and (10) facilitates communication between NCEH/ATSDR and its partners.

Retitle the Office of Regional Operations (TBC) to the Division of Regional Operations (TBC).

After the Division of Regional Operations (TBC), insert the following:

Office of Communications (TBD). (1) Provides technical assistance to Divisions on management issues, public affairs, and health communications strategies; (2) collaborates with external organizations and the news, public service, and entertainment and other media to ensure that effective findings and their implications for public health reach the public; (3) collaborates closely with Divisions to produce materials designed for use by the news media, including press releases, letters to the editor, public service announcements, television programming, video news releases, and other electronic and printed materials; (4) secures appropriate clearance of these materials within NCEH/ATSDR and CDC; (5) coordinates the development and maintenance of Center/Agency-wide information systems through an Internet Home Page; (6) develops strategies and operational systems for the proactive dissemination of effective findings and their implications for prevention partners and the public; (7) apart from the clearinghouses, hotlines, or other contractual mechanisms, responds to public inquiries and distributes information materials; (8) provides editorial, graphics, and publishing services for NCEH/ATSDR staff; (9) operates a NCEH/ATSDR Information Center; (10) maintains liaison with CDC public affairs and communications staff offices; (11) provides publications-related activities including editing, preparing articles and drafting news releases, distributing publications, and bibliographic services; and (12) provides public relations and publication-related activities.

Delete in their entirety the following titles and functional statements for the Program Evaluation, Records and Information Services Branch (TB64), Division of Health Assessment and Consultation (TB6): Program Enhancement Section (TB642) and Spatial Analysis and Information Dissemination Section (TB643).

Delete in their entirety the following titles and functional statements within the Exposure Investigations and Consultations Branch (TB68): Consultations Section (TB682), Exposure Investigations Section (TB683, and Petition Response Section (TB685).

Within the Federal Facilities Assessment Branch (TB69), delete in their entirety the following titles and functional statements: Defense Section (TB692), Energy Section A (TB694), and Energy Section B (TB695).

Within the Superfund Site Assessment Branch (TB6A), delete in their entirety the following titles and functional statements: Section A (TB6A2), Section B (TB6A3), and State Programs Section (TB6A4).

Within the Emergency Response and Scientific Assessment Branch (TB95), Division of Toxicology (TB9), delete in their entirety the following titles and functional statements: Emergency Response Section (TB952) and the Scientific Assessment Section (TB953).

Dated: December 16, 2003.
William H. Gimson,
Chief Operating Officer, Centers for Disease Control and Prevention (CDC).

[FR Doc. 03-31905 Filed 12-31-03; 8:45 am]

BILLING CODE 4160-70-M